DEPARTMENT OF THE TREASURY

Bureau of Alcohol, Tobacco and Firearms

27 CFR Part 275

[T.D. ATF-424a]

RIN 1512-AB92

Implementation of Public Law 105-33, Section 9302, Relating to the Imposition of Permit Requirements on the Manufacturer of Roll-Your-Own Tobacco (98R-370P)

ACTION: Temporary rule; correction.

SUMMARY: This document corrects a section of regulations that was erroneously revised in a temporary rule (T.D. ATF-424) published in the Federal Register of December 22, 1999, regarding the imposition of permit requirements on manufacturers of roll-your-own tobacco.

DATES: This rule is effective May 16, 2000.

FOR FURTHER INFORMATION CONTACT: Robert Ruhf, Regulations Division, Bureau of Alcohol, Tobacco and Firearms, 650 Massachusetts Avenue NW, Washington, DC 20226 (202-927-8210).

SUPPLEMENTARY INFORMATION: The Bureau of Alcohol, Tobacco and Firearms (ATF) published a document in the Federal Register of December 22, 1999 (64 FR 71929). We erroneously revised § 275.117(e). This document corrects that error.

In rule FR Doc. 99-32602 published on December 22, 1999, on page 71932, in the third column, remove the instruction and amendatory text in paragraph 25.

Signed: May 9, 2000.
Bradley A. Buckles,
Director.

[FR Doc. 00-12160 Filed 5-15-00; 8:45 am]

BILLING CODE 4810-31-P